DEPARTMENT OF HOUSING AND URBAN DEVELOPMENT

[Docket No. FR-4410-FA-12]

Housing Opportunities for Persons with AIDS Program; Announcement of Funding Award—Fiscal Year 1999

AGENCY: Office of the Assistant Secretary for Community Planning and Development, HUD.

ACTION: Notice.

SUMMARY: In accordance with section 102(a)(4)(C) of the Department of Housing and Urban Development Reform Act of 1989, this notice announces the funding decisions made by the Department under the Fiscal Year 1999 Housing Opportunities for Persons with AIDS (HOPWA) program. The notice announces the selection of 22 project applications and two Technical Assistance applications under the 1999 HOPWA national competition which were announced under the SuperNOFA for HUD's Housing Community Development and Empowerment Programs and published in the Federal Register on February 26, 1999. The notice contains the names of award winners and the amounts of the awards.

FOR FURTHER INFORMATION CONTACT: David Vos, Director, Office of HIV/AIDS Housing, Department of Housing and Urban Development, Room 7212, 451 Seventh Street, S.W., Washington, D.C. 20410, telephone (202) 708-1934. The TTY number for the hearing impaired is (202) 708-2565. (These are not toll-free numbers). Information on HOPWA, community development and consolidated planning, and other HUD programs may also be obtained from the HUD Home Page on the World Wide Web. In addition to this competitive selection, 97 jurisdictions received formula based allocations during the 1999 fiscal year for $200.475 million in HOPWA funds. Descriptions of the formula programs is found at www.hud.gov/cpd/hopwahom.html.

SUPPLEMENTARY INFORMATION: The purpose of the HOPWA program competition was to award project grants for housing assistance and supportive services under two categories of assistance: (1) Grants for special projects of national significance which, due to their innovative nature or their potential for replication, are likely to serve as effective models in addressing the needs of low-income persons living with HIV/AIDS and their families; and (2) grants for projects which are part of long-term comprehensive strategies for providing housing and related services for low-income persons living with HIV/AIDS and their families in areas that do not receive HOPWA formula allocations.

The purpose of the HOPWA Technical Assistance competition was to award grants that provide support for program operations. HUD established four national goals for these funds: (1) Helping communities develop comprehensive strategies for HIV/AIDS housing; (2) ensuring the sound management of HOPWA programs; (3) providing national HOPWA information to connect clients with assistance; and (4) using HUD information management tools to help achieve performance at the highest levels.

The HOPWA assistance made available in this announcement is authorized by the AIDS Housing Opportunity Act (42 U.S.C. 12901), as amended by the Housing and Community Development Act of 1992 (Pub. L. 102-550, approved October 28, 1992) and was appropriated by the HUD Appropriations Act for 1999. The competition was announced in a SuperNOFA for HUD's Housing Community Development and Empowerment Programs published in the Federal Register on February 26, 1999 (64 FR 9837). Each application was reviewed and rated on the basis of selection criteria contained in that Notice. A total of $22,464,110 was awarded to the 22 highest rated project applications in their ranked order and two technical assistance applications for $2 million.

Public Benefit

The award of HOPWA funds to these 22 projects will significantly contribute to HUD's mission in supporting projects that provide safe, decent and affordable housing for persons living with HIV/AIDS and their families who are at risk of homelessness. The projects proposed to use HOPWA funds to support the provision of housing assistance to an estimated 2,303 persons living with HIV/AIDS and an additional 992 family members who reside with the HOPWA recipient. In addition, an estimated 1,787 persons with HIV/AIDS are expected to benefit from some form of supportive service or housing information referral service that will help enable the client to maintain housing and avoid homelessness. The recipients of this assistance are expected to be very-low income or low-income households. These 22 applicants also documented that the Federal funds awarded in this competition, $22,464,110 million, will leverage an additional $50,143,834 in other funds and non-cash resources including the contribution of volunteer time in support of these projects, valued at $10/hour. The leveraged resources will expand the HOPWA assistance being awarded by 223 percent.

A total of $22,464,110 million was awarded to these 22 organizations to serve clients in the eighteen listed States:

1999 HOPWA Competitive Grants

Alaska

• The Alaska Housing Finance Corporation (AHFC) will receive a $616,000 grant to continue providing housing and supportive services to persons living with HIV/AIDS in Interior and Southeast Alaska. This Long-term grant will support clients as part of a comprehensive approach in addressing their needs in an area of the nation that does not receive formula funds. Shanti of Southeast Alaska and the Interior AIDS Association will join AHFC to provide a comprehensive program of rental assistance and case management services. This program combines local and federal resources to provide basic housing needs and services to approximately 90 persons living with HIV/AIDS in rural Alaska. For information, contact: Ms. Kris Duncan, P.O. Box 101020, Anchorage, AK 99510; (907) 338-2585

California

• The County of Alameda, Housing and Community Development Department will receive a $1,249,145 SPNS grant for rental assistance costs to renew Project Independence, a FY96 HOPWA grant. The County works in partnership with the AIDS Project of the East Bay, ARK of Refuge, Inc., Tri-City Health Center, and the Public Health Institute. The project will provide rental subsidies, accessibility improvement, moving assistance, case management and service coordination for health care, food assistance, and vocational/educational opportunities in Oakland and other communities in this County. Approximately 175 persons and 75 family members will be assisted with housing and services over the grant period. For information, contact: Ms. Katherine Gale, 224 W. Winton Ave., Room 108, Hayward, CA 94544; (510) 670-5211.

• The City of San Jose, Department of Housing will receive a $1,346,000 SPNS grant to create the Shared Housing Assistance Placement and Supportive Services (SHAPSS) in collaboration with the AIDS Resources Information & Services of Santa Clara County and Health Connections AIDS Services. The SHAPSS program, geared toward fostering independence, will provide operating costs for a transitional housing facility, a roommate referral service, tenant based rental subsidies and supportive services. Services include transportation, dietary counseling, respite care, psychosocial counseling and substance abuse counseling and treatment. The program will serve an estimated 80 clients with HIV/AIDS and 15 families in Santa Clara County and expand affordable housing for clients in a high cost housing market. For information, contact: Ms. Julia Abdala, 4 North Second Street, Suite 900, San Jose, CA 95113; (408) 277-8359.

• The West Hollywood Community Housing Corporation will receive an SPNS award of $459,005 to provide for a continuation of supportive housing for 450 persons living with HIV/AIDS. The Enhanced Management Program, developed originally under a 1996 SPNS grant, will expand permanent affordable housing options through service coordination in Los Angeles County in connection with housing programs developed and funded through other leveraged sources. A consortium with the Hollywood Community Housing Corporation, Project New Hope, and Skid Row Housing Trust will expand service to three additional communities, develop an On-Site Learning program for life skills development and offer training and employment programs. The program will fund Resident and Vocational Service Coordinators at 25 sites to promote long-term residential stability and reemployment opportunities. For information, contact: Mr. Paul Zimmerman, Executive Director, 8285 Sunset Blvd., Suite 3, West Hollywood, CA 90046; (323) 650-8771.

Colorado

• The Del Norte Neighborhood Development Corporation will receive an SPNS grant in the amount of $959,330 to fund the substantial rehabilitation of Dave's Place, a 15-bed single-room occupancy (SRO) facility located in Denver. This facility will provide for very-low income PLWA who are homeless and who may be double or triple diagnosed with substance abuse and/or mental illness issues. Participants will also receive individually tailored services including group and individual counseling, transportation assistance, food bank access, HIV education, 2 hot meals daily, and self-sufficiency training, and other services in cooperation with the Colorado AIDS Project. An estimated 27 persons will benefit from the housing and supportive services in the three year period. For information, contact: Mr. Marvin Kelly, Executive Director, 2926 Zuni St., #202, Denver, CO 80211; (303) 477-4774.

Delaware

• The Delaware HIV Consortium will receive a $934,487 SPNS grant for the acquisition, rehabilitation and operation of a housing facility in collaboration with the Connections Community Support Programs, Inc. Under this grant, the Consortium will develop and operate ten units of permanent housing with intensive supportive services with a primary focus on the needs of women with HIV/AIDS and co-occurring substance use and/or mental health disorders in a high-impact minority neighborhood of Wilmington. This program, known as Womanspace, will provide a safe and comfortable environment where participants will be engaged in a three-tiered program of housing, stabilization and treatment. For information, contact: Ms. Kirsten Olson, 100 West Tenth Street, Suite 415, Wilmington, DE 19801; (302) 654-5472.

District of Columbia

• Safe Haven Outreach Ministries will receive a $1,286,000 SPNS grant to support 46 units of transitional housing for dually and multiply diagnosed homeless adults with HIV/AIDS. This program will convert the top two floors of Sibley Plaza, a D.C. public housing building, into one and two-bedroom units for this program. On-site substance abuse counseling, basic medical care, mental health treatment, case management, assistance with daily living and job readiness training will be provided. The program was developed from advocacy by residents through the Sibley Plaza Resident Council in coordination with the DC Public Housing Authority and creates options in public housing approaches to needs associated with the HIV epidemic. Clients with former criminal justice issues will be assisted in reentry support and guidance. The program will stabilize 256 homeless individuals and facilitate their entry into set-aside permanent housing following this transitional support. For information, contact: Ms. Marsha A. Richardson, Executive Director, 931 Potomac Ave., SE., Washington, DC 20005; (202) 546-7146.

Hawaii

• The Maui AIDS Foundation will receive a $1,158,399 SPNS grant for rental assistance to address housing needs of people living with HIV/AIDS throughout the neighbor islands outside of Oahu. This nonprofit will collaborate with the Big Island AIDS Project, Malama Pono, and West Hawaii AIDS Foundation in administering funds for rental assistance, short-term rent, supportive services, housing information and other resources. By linking housing assistance from HOPWA to the continuum of resources available through current service programs, the project will serve 82 persons and 40 family members with housing and support that is appropriate to client needs. An additional 234 persons will receive related services. For information, contact: Mr. Jon Berliner, Executive Director, 1935 Main Street, Suite 101, Wailuku, HI 96793; (808) 242-4900.

Idaho

• The Idaho Housing and Finance Association will receive $1,299,837 Long-Term grant for rental assistance and will be undertaking the first-ever HOPWA-funded activities in this State. The Idaho HOPWA Collaboration, in conjunction with the Boise City and Nampa Housing Authorities, the ID Department of Health and Welfare, the North Idaho AIDS Coalition, the Central ID Care Consortium, Magic Valley HIV/AIDS Group, Southeastern Idaho AIDS Coalition, the Idaho AIDS Foundation and Terry Reilly Health Services, will provide long-term rental assistance for 45 units, short-term rental and utility assistance, case management, dental and psychiatric services for low income persons living with AIDS. The project will expand the existing supportive service delivery system, assisting 384 persons living with AIDS and their families throughout the State of Idaho. For information, contact: Ms. Julie H. Williams, 565 W. Myrtle Street, Boise, ID 83707-1899; (208) 331-4886.

Illinois

• Pioneer Civic Services, located in Peoria, will receive a $515,592 SPNS grant for development and operations costs for a permanent housing unit in connection with health care and other services provided by the Heart of Illinois HIV/AIDS Center. The team will also collaborate with the Health Department, the Central Illinois Friends of PWA and Pioneer Properties in offering assistance. The housing includes the acquisition and rehabilitation of two 2-unit duplexes and the use of vouchers for four scattered site units to create additional flexibility for housing options. The project will make available intensive case management intervention to support persons living with HIV/AIDS to better achieve stability and independence. A community program development coordinator will also work to facilitate strategic planning to expand future resources for this population. The project will serve approximately 78 persons living with AIDS and their families. For information, contact: Ms. Helena M. Crum, Director, 1318 S.W. Adams Street, Peoria, IL 61602; (309) 673-9418.

• Traveler's and Immigrant Aid/Chicago Connections will receive a $1,286,000 SPNS grant to continue the operations of the First Step Program, which provides recovery support and housing for persons living with HIV/AIDS with substance abuse and mental illness challenges in Chicago. The program offers 15 units of transitional housing for persons with HIV/AIDS in recovery programs. As a renewal of their 1995 HOPWA grant, the Phase II Program establishes First Step, a recovery home providing case management, individual and group counseling, and day health providers and access to other support offered by Rafael House, a licensed drug and alcohol treatment provider. Under this grant, a comparative assessment of different service models which are employed in working with this population will also be conducted by the Mid America Institute on Poverty. The program will serve approximately 120 residents over a three year period. For information, contact: Mr. John S. Groseclose, 208 S. LaSalle, Suite 1818, Chicago, IL 60604; (773) 989-1935.

Maine

• The AIDS Project of Portland, Maine will receive a $712,221 SPNS grant to implement a HAVEN Project under the Housing Assistance and Volunteer Enlistment Network to continue and adapt prior HOPWA programs to address three new challenges-housing for homeless persons with HIV/AIDS, treatment for co-occuring mental illness and substance abuse, and needs of persons with HIV/AIDS recently released from incarceration. A collaboration with the AIDS Lodging House, Shalom House and Peabody House to address the needs of clients in southern Maine. The project will provide 42 units of tenant-based rental assistance, emergency assistance with rent, utility payments, intensive case management and in-home support, outreach and pre-release planning for persons in the criminal justice system, outreach to homeless persons with HIV, and housing information services to all targeted groups. The HAVEN project will serve approximately 110 persons with HIV/AIDS and 25 family members. An additional 203 persons will receive social services. For information, contact: Mr. George W. Friou, Executive Director, 615 Congress Street, 6th. Fl., P.O. Box 5305, Portland, ME 04101; (207) 774-6877.

Maryland

• The City of Baltimore, Department of Housing and Community Development, will receive $1,359,500 for the “At the Door Project” to help transition newly released prisoners with HIV/AIDS by providing stable housing and intensive services to address the high recidivism rate for ex-offenders. Program participants will receive substance abuse treatment and mental health assistance, pre-release planning, housing counseling, peer support, access to medical care, and job training through the collaboration of eight project sponsors, Health Education Resources Organization, Inc. (HERO), Sisters Together and Reaching Inc (STAR), Black Educational AIDS Project, Inc., Ecumenical AIDS Resource Services, Inc., Offenders Aid and Restoration, Inc., Courage to Change, Inc., Project PLASE, Inc., and Prisoners Aid, Inc. The team will offer 150 persons housing assistance and an additional 150 persons will receive supportive service assistance. The SPNS program was developed in collaboration with the Maryland State Department of Corrections and other agencies, a focus group of ex-offenders and through a conference on the urgent needs of newly released prisoners and inmates. For information, contact: Mr. Leslie Leitch, P.O. Box 236, 417 East Fayette Street, Baltimore, MD 21202; (410) 396-3757.

Massachusetts

• Community Healthlink, Inc. in Worcester County, Massachusetts will receive a $1,236,000 SPNS grant to establish and operate an eight-unit residence for pregnant homeless women with HIV/AIDS who are also challenged with substance abuse issues.

Medical support to be offered will focus on preventing neonatal transmission of HIV and provide other prenatal care that would otherwise not be accessible for homeless clients. A wide range of supportive services, including specialized HIV/AIDS treatment, substance abuse treatment, mental health treatment, parenting skills development, and permanent housing search will be provided. This project will serve an estimated 48 persons with useful innovations in helping this client population address current needs due to homelessness, pregnancy and substance abuse and enable them to transition to more stable and independent living, in connection with prioritized access to 48 units of housing under the nonprofit's grants from the Supportive Housing Program and the Shelter Plus Care program. For information, contact: Dr. Kenneth A. Hetzler, MD, Executive Director, 72 Jaques Avenue, Worcester, MA 01610; (508) 860-1115.

• The Justice Resource Institute (JRI) will receive a $1,256,815 SPNS grant for a tenant-based rental assistance program, called TBRA Plus. The program will enable clients in many communities in Massachusetts outside Boston, to use scattered-site rental subsidies to access housing. Regional services will be established for low-income and homeless individuals and families with HIV/AIDS. Rental subsidies will be offered by the South Shore Housing Development Corporation for Plymouth and Bristol Counties, HAP, Inc. for Hampden and Hampshire counties, and Community Teamwork Inc. for northern Essex and Middlesex Counties. JRI is also collaborating with the North Shore Community Action Program (Peabody), the River Valley AIDS Project (Springfield), the Brockton Area Multi-Services, the Stanley Street Treatment and Resources (Fall River) the Community Counseling of Bristol County (Taunton) and Project Home/Center for Health and Human Services (New Bedford) for supportive services, including leveraged case management and permanent housing search efforts. The program will help 95 persons and their families with housing assistance during the three years of the grant. For information, contact: Ms. Laurie Bloom, 130 Boylston Street, Boston, MA 02116; (617) 457-8150.

New Hampshire

• The State of New Hampshire, Department of Health and Human Services, Office of Community Support and Long Term Care will receive a $520,448 grant in conjunction with the Merrimack Valley AIDS Project, the New Hampshire AIDS Foundation, and Manchester Neighborhood Housing. The program will provide community-based housing and supportive services including case management, for low and very low income persons and families living with HIV/AIDS in the greater Manchester area. An estimated 90 persons with HIV/AIDS and 35 family members will receive assistance. An additional 75 will receive supportive services and information will be provided to landlords, housing providers and nonprofits to help fight the stigma of AIDS and expand client access. Twenty-five units of rental housing will become available through this initiative. For information, contact: Ms. Phyllis Powell, 105 Pleasant Street, Rm. 117-C, Main Bldg., Concord, NH 03301; (603) 271-5059.

New York

• United Bronx Parents, Inc. will receive a $1,080,000 SPNS grant to renew a successful prior HOPWA grant for Casita Esperanza that is addressing the complex needs of persons with HIV/AIDS who have multiple diagnoses, including homelessness, mental illness and/or substance abuse issues. The project serves clients in four primarily Latino and African American Bronx neighborhoods of New York City. Approximately 240 persons will receive housing and services including medical attention, shelter, and assistance in locating other permanent housing. The project includes the use of 14 emergency housing units to address immediate needs and to engage clients in recovery services, the use of 28 clean and sober transitional housing units in the facility, the establishment of a free primary health care center and an outpatient mental health clinic and other on-site services. This project has been participating with Columbia University's Evaluation and Technical Assistance Center on the evaluation of current efforts with this high-need population under the Multiple Diagnoses Initiative that was developed by HUD and HHS in 1996. For information, contact: Ms. Lorraine Montengro, Executive Director, 773 Prospect Avenue, Bronx, NY 10455; (718) 991-7100.

• Greyston Health Services, Inc. in Yonkers, New York will receive a $1,271,870 SPNS grant for a HIV Mental Illness Chemical Addition Special Project that addresses a gap in appropriated care for persons with these needs. In coordination with the project sponsor, Maitri Center Inc., the project will purchase and rehabilitate six units of low income housing; provide a staff housing; supply emergency rental assistance funds; provide enhanced supportive services in day service programs; and offer enhanced environmental and crisis management services to maintain 24-hour assistance at the organization's Issan House, as 35-unit supportive housing facility for formerly homeless persons with AIDS. The program will serve 214 persons with HIV/AIDS in Westchester County. For information, contact: Mr. Charles G. Lief, President, Greystone Health Services, 21 Park Avenue, Yonkers, NY 10703; (914) 376-3900.

Pennsylvania

• The Asociacion de Puertorriquenos en Marcha, Inc. will receive a $1,193,511 SPNS grant to continue La CASA (Community AIDS Services Advancement), a program of rental assistance, counseling and other services for clients in the mostly Latino neighborhood in north Philadelphia. The components of La CASA include assisting persons with HIV/AIDS and their families with coordination of services, 20 units of tenant based rental assistance, security deposits, housing counseling, case management, medical monitoring, emergency child care, and transportation within a bilingual/bicultural setting. The program will provide housing assistance for up to 50 households in Philadelphia for over three years, with an additional 30 persons living with HIV/AIDS receiving supportive services. The grant continues the organizations 1996 HOPWA award for this program and adapts the program by offering more intensive support for families where the parent, mostly women, are in early stages of recovery. For information, contact: Ms. Iris Caballero, 2147 N. 6th. Street, Philadelphia, PA 19122; (215) 236-8885.

Rhode Island

• The Rhode Island Housing and Mortgage Finance Corporation will receive a SPNS grant for $1,078,955 to provide housing assistance in cooperation with the treatment and care programs of AIDS Care Ocean State. In adapting prior efforts, grant funds will be used to rehabilitate a building to create Sober House, a sheltered environment providing intensive supportive services that address the challenges of relapse, including support following detox treatment. Six additional rental units will be made available to expand prior HOPWA funded housing programs. This program will serve an estimated 100 persons throughout the state over three years and 10 additional families/persons through the leasing program. For information, contact: Ms. Susan Boddington, 44 Washington Street, Providence, RI 02903; (401) 457-1286.

Texas

• The Houston Regional HIV/AIDS Resource Group, Inc., will receive a $783,333 SPNS grant to fund the continuation of a 1996 HIV Multiple Diagnoses Initiative project. Funds will be used to adapt this program by increasing crises interventions and increasing the number of first stage beds for clients who leave the stabilization programs at the University of Texas Houston Recovery Campus. This program will continue to provide short-term crisis housing and substance abuse treatment to 194 individuals over two years with assistance provided by the Bering Omega Community Service, Crisis Intervention and AIDS Foundation Houston as partners. The program will also expand to include admission on demand of recently incarcerated individuals from the Harris County Jail. The four sponsors will use a computerized database to connect persons to housing, offer a crisis hotline, and provide case management and referrals under a care plan for on-going support in connection with housing under the City's HOPWA formula programs and Supportive Housing Program projects. For information, contact: Mr. Michael J. Springer, Executive Director, 500 Lovett Blvd., Suite 100, Houston, TX 77006; (713) 526-1016.

• The Tarrant County, Community Development Division will receive a $861,622 SPNS grant to fund the “Preservation and Expansion Project” for the rehabilitation of a special care facility for persons with HIV/AIDS who are homeless. Funds will support Samaritan House in operating its 31-unit single room occupancy facility in northwest Fort Worth. The project will provide supportive services, a substance abuse recovery program, needed repairs to the housing facility, and a 15 permanent housing rental assistance vouchers to assist clients ready for independent living arrangements. The program expects that 110 persons will be served under this grant. For information, contact: Ms. Patricia Ward, 1509B South University, Suite 276, Fort Worth, TX 76107; (817) 338-9129.

Nation-wide HOPWA Technical Assistance AIDS Housing of Washington, Inc.

AIDS Housing of Washington, Inc., (based in Seattle), is collaborating with Bailey House, Inc., (New York City) and the AIDS Housing Corporation (Boston) to provide national HOPWA technical assistance to nonprofit organizations and State and local governments in planning, operating and evaluating housing assistance for persons who are living with HIV/AIDS and their families. The award of National HOPWA TA funds of $1,750,00.00 will allow the AIDS Housing of Washington (AHW) team to address each of the four National HOPWA goals that were established by HUD in the 1999 SuperNOFA.

AHW will provide assistance to help communities establish and enhance their Comprehensive Strategies for HIV/AIDS Housing, especially within the context of updating the five-year Consolidated Plan. In addition, the collaboration will promote the Sound Management of HOPWA Programs to uphold the public trust and coordinate activities that provide National HOPWA Information to help clients and communities better connect to available assistance. In connection with other providers, the AHW team will also be involved in helping grant recipients make Use of HUD Information Management Tools, including new information technology in reporting on program accomplishments. AHW is the prior recipient of the National HOPWA TA grant that was awarded in the 1997 competition and was the prime organizer for three national conferences on AIDS housing. Bailey House and the AIDS Housing Corporation are also recipients of HOPWA funds as Special Projects of National Significance that were awarded in prior competitions. Bailey House is offering management support to 75 AIDS organizations in New York City and collaborates with the World Institute for Disabilities in developing vocational education projects for persons with HIV/AIDS. AHC is a provider of housing development and technical assistance activities through out Massachusetts and in other communities in New England.

Under the 1999 grant, the AHW team will provide outreach to housing and service providers and governments in undertaking comprehensive needs assessment and planning, and will provide grantee program training, community consultations, host national and regional AIDS housing conferences and meetings, develop a Leadership Institute for AIDS housing providers, and disseminate information in publications and via the internet. The team will work with other consultants to provide specialized knowledge in program evaluations, fiscal system design and implementation, board and organizational development for nonprofits, and needs assessments and planning expertise. Communities in every State are expected to benefit from the project activities and prospective clients and the public will gain greater knowledge of the HOPWA program. This collaboration also will network with the Cooperation for Supportive Housing, the National Supportive Housing Technical Assistance Partnership and the Enterprise Foundation, to draw upon the expertise and resources of theses providers of Supportive Housing and HOME technical assistance. The AIDS Housing of Washington collaboration will make its available resources to HOPWA grantees and program sponsors on a nation-wide basis over a three year period. For information, contact: Donald Chamberlain, Director of Technical Assistance, AIDS Housing of Washington, 2025 First Avenue, Suite 420, Seattle, WA 98121; Telephone No: (206) 448-5242, Fax No: (206) 441-9485, Email: donald@aidshousing.org, Website: www.aidshousing.org.

Center for Urban and Community Services, Inc.

The Center for Urban and Community Services, Inc. (New York City), in conjunction with its partners, the Hudson Planning Group (New York City), the Corporation for Supportive Housing (offices in New York and eight other States), Lakefront SRO (Chicago), and the Barry University School of Social Work (Miami Shores, FL), will also be awarded funds for HOPWA technical assistance activities. The grant of $250,000 will enable this team to focus technical assistance to HOPWA grantees, project sponsors and potential recipients over a one-year period. Based on their current project operations, the CUCS team will target HOPWA program activities to communities in the States that are East of the Mississippi River.

The organizations will primarily address two of the National HOPWA goals: helping communities create Comprehensive Strategies for HIV/AIDS Housing and facilitating the Sound Management of HOPWA Programs. The project will assist communities in updating their five-year strategies under their Consolidated Plan, including undertaking needs assessments through surveys of consumers. These five organizations will work together with other housing and health care providers to better integrate program operations, supportive services, property and financial management, operational capacity development, facility development and community planning in assisting the client population eligible under HOPWA. CUCS is currently providing technical assistance for programs that provide assistance to persons who are homeless under the Supportive Housing Technical Assistance grant with the Corporation for Supportive Housing and the Hudson Planning Group is a recipient of a HOWPA Special Project of National Significance for managed care activities in New York. For information, contact: Suzanne Wagner, Director of Training and Technical Assistance, Center for Urban Community Services, Inc., 120 Wall Street, 25th Floor, New York NY 10005 Telephone No:(212) 801-3313, Fax No: (212) 635-2191, Website: www.cucs.org.

Total for all 22 program grants | $22,464,110
Total for 2 Technical Assistance grants | 2,000,000
Total | 24,464,110

Dated: February 22, 2000.
Cardell Cooper,
Assistant Secretary for Community Planning and Development.

[FR Doc. 00-4641 Filed 2-25-00; 8:45 am]

BILLING CODE 4210-29-P